DEPARTMENT OF JUSTICE

Notice of Lodging of Consent Decree Pursuant to the Comprehensive Environmental Response, Compensation, and Liability Act of 1980, as Amended

Consistent with Departmental policy, 28 C.F.R. 50.7, notice is hereby given that on February 7, 2000, a proposed consent decree in United States v. Ashland, Inc., et al., Civil Action No. 3:00 CV 252 (AVC), was lodged with the United States District Court for the District of Connecticut. This proposed consent decree resolves the United States' claims under the Comprehensive Environmental Response, Compensation, and Liability Act (“CERCLA”), 42 U.S.C. 9601 et seq., on behalf of the U.S. Environmental Protection Agency (“EPA”) against thirty potentially responsible parties relating to certain response costs that have been or will be incurred at or from a Site known as the Gallup's Quarry Superfund Site (“Site”) located in the Town of Plainfield, Connecticut, and the performance of the remedial action at the Site.

The Consent Decree requires the defendants to fund and perform the selected remedy, specifically natural attenuation of contaminants in the soil and groundwater, a long-term sampling and analysis program, implementation of institutional controls to restrict the site use, five year site reviews to assure that the remedy continues to protect human health and the environment, and to pay certain of the United States' future costs at the Site.

The Department of Justice will receive for a period of thirty (30) days from the date of this publication comments relating to the proposed consent decree. Any comments should be addressed to the Assistant Attorney General of the Environment and Natural Resources Division, Department of Justice, Washington, DC 20530, and should refer to United States v. Ashland, Inc., et al., D.J. Ref. 90-11-2-934A.

The proposed consent decree may be examined at the Office of the United States Attorney for the District of Connecticut, 450 Main Street, Hartford, CT., 06103; and at the Region I Office of the Environmental protection Agency, One Congress Street, Boston, MA., 021114-2023. A copy of the proposed consent decree may be obtained by mail from the Consent Decree Library, P.O. Box 7611, Washington, DC 20044. When requesting a copy please refer to the referenced case and enclosed a check made payable to the Consent Decree Library in the amount of $26.00 (there is a 25 cent per page reproduction costs).

Joel Gross,
Chief, Environmental Enforcement Section, Environment and Natural Resources Division.

[FR Doc. 00-4971 Filed 3-1-00; 8:45 am]

BILLING CODE 4410-15-M